ENVIRONMENTAL PROTECTION AGENCY

40 CFR Part 174

[EPA-HQ-OPP-2015-0032; FRL-9929-13]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before August 17, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Director, Registration Division (RD) (7505P), main telephone number: (703) 305-7090; email address: RDFRNotices@epa.gov, Robert McNally, Director, Biopesticide and Pollution Prevention Division (BPPD), main telephone number: (703) 305-7090; email address: BPPDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this Action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the agency taking?

EPA is announcing its receipt of several pesticide petitions filed under section 408 of the Federal Food, Drug, and Cosmetic Act (FFDCA), 21 U.S.C. 346a, requesting the establishment or modification of regulations in 40 CFR part 80 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

PP 5F8355. (EPA-HQ-OPP-2015-0308). Gowan Company, P.O. Box 5569, Yuma, AZ 85366, requests to establish tolerances in 40 CFR part 180 for residues of the herbicide, EPTC, (S-ethyl dipropylthiocarbamate), in or on grass, grown for seed, forage at 0.6 parts per million (ppm) and grass, grown for seed, hay at 0.5 ppm. An analytical method using gas chromatography with nitrogen-phosphorus detection is used to measure and evaluate the chemical, EPTC, and its hydroxy metabolites. Contact: RD.

PP 5F8365. (EPA-HQ-OPP-2015-0375). Makhteshim Agan of North America, Inc. (d/b/a ADAMA), 3120 Highwoods Blvd., Suite 100, Raleigh, NC 27604, requests to establish a tolerance in 40 CFR part 180 for residues of the insecticide, fluensulfone, in or on tomato, paste at 1 parts per million (ppm). The LC-MS/MS residue analytical method is used to measure and evaluate the chemical fluensulfone (to be measured by residues of 3,4,4-trifluoro-but-3-end-1-sulfonic acid, expressed as the stoichiometric equivalent of fluensulfone). Contact: RD.

PP 3F8220. (EPA-HQ-OPP-2014-0114). EPA issued a notice in the Federal Register of May 23, 2014, (79 FR 29729) concerning pending filings of pesticide petitions requesting the establishment or modification of tolerances for residues of pesticide chemicals in or on various commodities. This document corrects the notification for petition PP 3F8220 by adding the missing entry for dried fruiting vegetable at 0.9 ppm. The original notice was for E.I. du Pont de Nemours & Company (DuPont), 1007 Market Street, Wilmington, DE 19898, which requested to establish tolerances in 40 CFR part 180 for residues of the fungicide oxathiapiprolin, 1-(4-{4-[(5RS)-5-(2,6-difluorophenyl)-4,5-dihydro-1,2-oxazol-3-yl]-1,3-thiazol-2-yl{time}-1-piperidyl)-2-[5-methyl-3-(trifluoromethyl)-1H-pyrazol-1-yl] ethanone. Contact: RD.

Amended Tolerances

PP 5F8346. (EPA-HQ-OPP-2015-0339). Gowan Company, P.O. Box 5569, Yuma, AZ, 85366 requests to amend the tolerances in 40 CFR 180.448 for residues of the insecticide, hexythiazox, in or on cotton, gin byproducts to 15 parts per million (ppm) and cotton, undelinted seed to 0.5 ppm. The high performance liquid chromatography (HPLC) using mass spectrometric detection (LC-MS/MS) analytical method is used to measure and evaluate residues of hexythiazox and its metabolites containing the PT-1-3 moiety. Contact: RD.

PP 5F8356. (EPA-HQ-OPP-2015-0338). Gowan Company, P.O. Box 5569, Yuma, AZ 85366, requests to amend the tolerances in 40 CFR 180.448 for residues of the insecticide, hexythiazox, in or on fruit, citrus group 10 to 0.6 parts per million (ppm) and citrus, oil to 26 ppm. The high performance liquid chromatography (HPLC) using mass spectrometric detection (LC-MS/MS) analytical method is used to measure and evaluate residues of hexythiazox and its metabolites containing the PT-1-3 moiety. Contact: RD.

Tolerance Exemptions

PP IN-10750. (EPA-HQ-OPP-2015-0363). Scientific & Regulatory Solutions, L.L.C., 3450 Old Washington Rd # 303, Waldorf, MD 20602, on behalf of SNF, Inc., 1 Chemical Plant Road, Riceboro, GA 31321, requests to establish an exemption from the requirement of a tolerance for residues of 2-propen-1-aminium, N,N-dimethyl-N-propenyl-, chloride, homopolymer (CAS Reg. No. 26062-79-3) when used as an ingredient in antimicrobial pesticide formulations applied to food-contact surfaces in public eating places, dairy processing equipment and food processing equipment and utensils in accordance with 40 CFR 180.940(a). The petitioner believes no analytical method is needed because it is not required for an exemption from the requirement of a tolerance. Contact: RD.

PP IN-10815. (EPA-HQ-OPP-2015-0350). Keller and Heckman, 1001 G Street NW., Suite 500 West, Washington, DC 20001 on behalf of C.P. Kelco U.S., Inc., 3100 Cumberland Blvd., Suite 600, Atlanta, GA 30339 requests to establish an exemption from the requirement of a tolerance for residues of D-glucurono-D-gluco-6-deoxy-L-mannan, acetate, calcium magnesium potassium sodium salt (CAS Reg. No. 595585-15-2) when used as an inert ingredient applied to growing crops and raw agricultural commodities after harvest under 40 CFR 180.910. The petitioner believes no analytical method is needed because it is not required for an exemption from the requirement of a tolerance. Contact: RD.

Amended Tolerance Exemption

PP 4F8342. (EPA-HQ-OPP-2010-0099). SciReg, Inc., 12733 Director's Loop, Woodbridge, VA 22192 (on behalf of bio-ferm GmbH, Technologiezentrum Tulln, Technopark 1, Tulln, 3430, Austria), requests to amend an exemption from the requirement of a tolerance in 40 CFR 180.1312 for residues of the fungicide Aureobasidium pullulans strains DSM 14940 and DSM 14941 in or on all food commodities. The petitioner believes no analytical method is needed because the petitioner is submitting a petition to establish a postharvest exemption from the requirement of a tolerance and, therefore, an analytical method is not required. Contact: BPPD.

New Inert Tolerance

PP IN-10818. (EPA-HQ-OPP-2015-0395). Itaconix Corporation, 2 Marin Way, Stratham, NH 03885, requests to establish an exemption from the requirement of a tolerance for residues of butanedioic acid, 2-methylene-, homopolymer, sodium salt (CAS Reg. No. 26099-89-8), when used as an inert ingredient in pesticide formulations under 40 CFR 180.960. The petitioner believes no analytical method is needed because it is not required for an exemption from the requirement of a tolerance. Contact: RD.

Authority: 21 U.S.C. 346a.

Dated: July 8, 2015.
Jennifer Mclain,
Acting, Director, Antimicrobials Division, Office of Pesticide Programs.

[FR Doc. 2015-17674 Filed 7-16-15; 8:45 am]

BILLING CODE 6560-50-P